DEPARTMENT OF VETERANS AFFAIRS

[OMB Control No. 2900-0783 (10-10073, 10073a, 10073b, 10073c)]

Proposed Information Collection (Nonprofit Research and Education Corporations (NPCs) Data Collection)

ACTIVITY: Comment Request.

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each new collection, and allow 60 days for public comment in response to the notice. This notice solicits comments on the information needed to evaluate the information collected in the NPC Annual Report Template from the NPCs that is not used in preparing the NPC Annual Report to Congress. Information is used by VA in the conduct of its oversight of the NPCs.

DATES: Written comments and recommendations on the proposed collection of information should be received on or before July 25, 2016.

ADDRESSES: Submit written comments on the collection of information through Federal Docket Management System (FDMS) at www.Regulations.gov; or to Brian McCarthy, Veterans Health Administration (10B4), Department of Veterans Affairs, 810 Vermont Avenue NW., Washington, DC 20420; or email: Brian.McCarthy4@va.gov. Please refer to “OMB Control No. 2900-0783 (Nonprofit Research and Education Corporations (NPCs) Data Collection)” in any correspondence.

FOR FURTHER INFORMATION CONTACT: Brian McCarthy at (202) 461-6345.

SUPPLEMENTARY INFORMATION: Under the PRA of 1995 (Public Law 104-13; 44 U.S.C. 3501-3521), Federal agencies must obtain approval from the Office of Management and Budget (OMB) for each collection of information they conduct or sponsor. This request for comment is being made pursuant to section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: Nonprofit Research and Education Corporations (NPCs) Data Collection.

a. Annual Report Template, VA Form 10-10073.

b. Audit Actions Items Remediation Plans, VA Form 10-10073 A.

c. NPPO Internal Control Questionnaire, VA Form 10-10073 B.

d. NPPO Operations Oversight Questionnaire, VA Form 10-10073 C.

OMB Control Number: 2900-0783.

Type of Review: Revision of a currently approved collection.

Abstract: The combined NPC Annual Report to Congress is described in section 7366 (d) “The Secretary (DVA) shall submit to the Committees on Veterans' Affairs of the Senate and House of Representatives an annual report on the corporations (NPCs) established under this subchapter.” Section 7366(d) goes on to list some of the specific information required by Congress. The sources for all of the information contained in the NPC Annual Report to Congress are the individual NPC Annual Report Templates submitted by each of the NPCs.

Affected Public: Individuals or households.

Estimated Annual Burden: 858 burden hours.

a. NPC Annual Report Template—301 hrs.

b. NPC Audit Actions Items Remediation Plans—84 hrs.

c. NPPO Internal Control Questionnaire—344 hrs.

d. NPPO Operations Oversight Questionnaire—129 hrs.

Estimated Average Burden Per Respondent:

a. NPC Annual Report Template—210 minutes.

b. NPC Audit Actions Items Remediation Plans—120 minutes.

c. NPPO Internal Control Questionnaire—240 minutes.

d. NPPO Operations Oversight Questionnaire—90 minutes.

Frequency of Response: One-time.

Estimated Number of Respondents: 300.

a. NPC Annual Report Template—86.

b. NPC Audit Actions Items Remediation Plans—42.

c. NPPO Internal Control Questionnaire—86.

d. NPPO Operations Oversight Questionnaire—86.

By direction of the Secretary.
Kathleen M. Manwell,
Program Analyst, VA Privacy Service, Office of Privacy and Records Management, Department of Veterans Affairs.

[FR Doc. 2016-12088 Filed 5-23-16; 8:45 am]

BILLING CODE 8320-01-P